DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on May 1, 2023, through May 31, 2023. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table, but which was caused by” one of the vaccines referred to in the Table, or

b. “[S]ustained, or had significantly aggravated, any illness, disability, injury, or condition set forth in the Vaccine Injury Table the first symptom or manifestation of the onset or significant aggravation of which did not occur within the time period set forth in the Table, but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of Title 44, United States Code, related to paperwork reduction, does not apply to information required for purposes of carrying out the Program.

Carole Johnson,
Administrator.

List of Petitions Filed

1. Delshun Carter, Waupun, Wisconsin, Court of Federal Claims No: 23-0618V

2. Tommie Lee Lanier, Statesboro, Georgia, Court of Federal Claims No: 23-0624V

3. Haley Petz, Clarks Summit, Pennsylvania, Court of Federal Claims No: 23-0625V

4. Denise Bernhang on behalf of B. B., Boca Raton, Florida, Court of Federal Claims No: 23-0627V

5. Torri Kidder, Plaquemine, Louisiana, Court of Federal Claims No: 23-0628V

6. Tessa Needham, Portland, Oregon, Court of Federal Claims No: 23-0630V

7. Lyndzee Weiss, Phoenix, Arizona, Court of Federal Claims No: 23-0633V

8. Mikako Welborn, Springfield, Oregon, Court of Federal Claims No: 23-0635V

9. Sangeetha Gnanasundaram, Colorado Springs, Colorado, Court of Federal Claims No: 23-0636V

10. Erica Jennings, Tupelo, Mississippi, Court of Federal Claims No: 23-0637V

11. Daisy Santiago, San Diego, California, Court of Federal Claims No: 23-0640V

12. Edith Fox, La Luz, New Mexico, Court of Federal Claims No: 23-0646V

13. Ranaye Goff, Luck, Wisconsin, Court of Federal Claims No: 23-0649V

14. Douglas Eberline, Peoria, Arizona, Court of Federal Claims No: 23-0655V

15. Sharee Barber on behalf of A. B., Medford, Oregon, Court of Federal Claims No: 23-0657V

16. Michelle Palazzolo, Staten Island, New York, Court of Federal Claims No: 23-0658V

17. Timothy Johnnies, Waupun, Wisconsin, Court of Federal Claims No: 23-0659V

18. Terry Cooper, Lewisburg, Pennsylvania, Court of Federal Claims No: 23-0661V

19. Tuipine Sofara, San Bruno, California, Court of Federal Claims No: 23-0662V

20. Veronica Madden, North Weymouth, Massachusetts, Court of Federal Claims No: 23-0665V

21. Carissa Photopoulos on behalf of Steven Wedekind, Deceased, Clintonville, Wisconsin, Court of Federal Claims No: 23-0667V

22. Chris Sullivan and Michelle Routhier on behalf of C. S., Deceased, Stockton, California, Court of Federal Claims No: 23-0670V

23. Diana Vorholt, Portage, Michigan, Court of Federal Claims No: 23-0671V

24. Francine Hargens, Clinton, Missouri, Court of Federal Claims No: 23-0672V

25. Susan Colby, Hines, Illinois, Court of Federal Claims No: 23-0673V

26. Sharee Barber on behalf of A. B., Medford, Oregon, Court of Federal Claims No: 23-0674V

27. Sepideh Pourhassani, Huntsville, Alabama, Court of Federal Claims No: 23-0675V

28. Natalie Brouwer Potts, Lincolnwood, Illinois, Court of Federal Claims No: 23-0678V

29. Omar Rueda Denvers, Lovelock, Nevada, Court of Federal Claims No: 23-0681V

30. Barbara Raufmann, Chicago, Illinois, Court of Federal Claims No: 23-0682V

31. Roger M. Miller, Marietta, Georgia, Court of Federal Claims No: 23-0684V

32. Dawn Coppersmith, Chestertown, New York, Court of Federal Claims No: 23-0685V

33. Jamila Washington, Kalamazoo, Michigan, Court of Federal Claims No: 23-0686V

34. Stacy Ann Dixon, Morristown, New Jersey, Court of Federal Claims No: 23-0687V

35. Jocelyn Ashley, Jacksonville, North Carolina, Court of Federal Claims No: 23-0689V

36. Nancy Harrison, Salinas, California, Court of Federal Claims No: 23-0691V

37. Susan Rogers, Rochester, Indiana, Court of Federal Claims No: 23-0695V

38. Jennifer Marie Tate, Bangor, Pennsylvania, Court of Federal Claims No: 23-0697V

39. Kristine Eldridge, Billings, Montana, Court of Federal Claims No: 23-0699V

40. Vinod Agarwal, Webster, New York, Court of Federal Claims No: 23-0703V

41. Shanie Roman, Phoenix, Arizona, Court of Federal Claims No: 23-0705V

42. Lauren Naude, Baltimore, Maryland, Court of Federal Claims No: 23-0709V

43. Rachel Sloan on behalf of A. S., Boca Raton, Florida, Court of Federal Claims No: 23-0710V

44. Abigail La Croix, New York, New York, Court of Federal Claims No: 23-0711V

45. Kay Lloyd, New Orleans, Louisiana, Court of Federal Claims No: 23-0712V

46. Terry Boyd, Crowley, Texas, Court of Federal Claims No: 23-0714V

47. David Hammett and Judy Hammett on behalf of E. H., Phoenix, Arizona, Court of Federal Claims No: 23-0716V

48. Rebecca Crawley, Boston, Massachusetts, Court of Federal Claims No: 23-0717V

49. William T. Lewek, M.D., Rochester, New York, Court of Federal Claims No: 23-0718V

50. Cory Scott, Indianapolis, Indiana, Court of Federal Claims No: 23-0725V

51. Marina Bendarcyk, Phoenix, Arizona, Court of Federal Claims No: 23-0729V

52. Thongsavahn Rodthong, Plymouth, Wisconsin, Court of Federal Claims No: 23-0730V

53. Jacob Drake, Phoenix, Arizona, Court of Federal Claims No: 23-0731V

54. Rose Panzarella, Delray Beach, Florida, Court of Federal Claims No: 23-0732V

55. Monica Vinogradoff, Fresno, California, Court of Federal Claims No: 23-0733V

56. John Maseiro, Bethalto, Illinois, Court of Federal Claims No: 23-0735V

57. Robert Paveglio, Great Neck, New York, Court of Federal Claims No: 23-0739V

58. Stacy Fogerty, Ballwin, Missouri, Court of Federal Claims No: 23-0741V

59. Tiffani Weber on behalf of C. W., North Brunswick, New Jersey, Court of Federal Claims No: 23-0742V

60. Lori Hess-Rosio, Crivitz, Wisconsin, Court of Federal Claims No: 23-0744V

61. Gregory Hampton, Marshall, Texas, Court of Federal Claims No: 23-0745V

62. Kimberly Davidson, South Milwaukee, Wisconsin, Court of Federal Claims No: 23-0746V

63. Muskan Wadhwa, Exton, Pennsylvania, Court of Federal Claims No: 23-0747V

64. Suzanne Booher, Phoenix, Arizona, Court of Federal Claims No: 23-0750V

65. Gracie Clements on behalf of P. A. C., Gadsden, Alabama, Court of Federal Claims No: 23-0751V

66. Shane Brown, Oak Grove, Missouri, Court of Federal Claims No: 23-0752V

67. Rodney Steele, Pittsburgh, Pennsylvania, Court of Federal Claims No: 23-0753V

68. A'Ja Lawrence, New Orleans, Louisiana, Court of Federal Claims No: 23-0755V

69. Melissa Marshall, Boston, Massachusetts, Court of Federal Claims No: 23-0756V

70. Michael Pendleton, Hopkinsville, Kentucky, Court of Federal Claims No: 23-0758V

71. Gordon Morris, Ann Arbor, Michigan, Court of Federal Claims No: 23-0760V

72. Kelly Jo Gutknecht, New Ulm, Minnesota, Court of Federal Claims No: 23-0764V

73. Chantel Gissentanner, Brooklyn, New York, Court of Federal Claims No: 23-0768V

74. Sean M. O'Malley, Carlisle, Pennsylvania, Court of Federal Claims No: 23-0769V

75. Kate S. Latimer Courtney, Saint Paul, Minnesota, Court of Federal Claims No: 23-0771V

76. Melissa Rogala, Newport News, Virginia, Court of Federal Claims No: 23-0773V

77. Inessa Ivanyuk, Irvine, California, Court of Federal Claims No: 23-0775V

78. Joel Kirkland and Tami Kirkland on behalf of S. K., Boston, Massachusetts, Court of Federal Claims No: 23-0777V

79. Adam Perez on behalf of L. P., Miami, Florida, Court of Federal Claims No: 23-0778V

80. Jerry Belt, Frisco, Texas, Court of Federal Claims No: 23-0779V

81. Erin Shinn, St. Charles, Missouri, Court of Federal Claims No: 23-0780V

82. Bryanne Tome on behalf of K. S., Phoenix, Arizona, Court of Federal Claims No: 23-0781V

83. Chris Strickland and Kirsten Strickland on behalf of K. S., Phoenix, Arizona, Court of Federal Claims No: 23-0785V

84. Leslie Susie, Greenville, South Carolina, Court of Federal Claims No: 23-0786V

85. Eric Vincent, Macomb, Michigan, Court of Federal Claims No: 23-0787V

86. Patricia Young, Phoenix, Arizona, Court of Federal Claims No: 23-0790V

87. Michaela Johnson, Napa, California, Court of Federal Claims No: 23-0791V

88. Rebecca Strehl, Kansas City, Missouri, Court of Federal Claims No: 23-0795V

[FR Doc. 2023-14717 Filed 7-11-23; 8:45 am]

BILLING CODE 4165-15-P